FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 011290-043.

Agreement Name: International Vessel Operators Dangerous Goods Association Agreement.

Parties: COSCO Shipping Lines Co., Ltd.; Crowley Caribbean Services LLC; Crowley Latin America Services, LLC; Evergreen Line Joint Service Agreement; Hapag-Lloyd AG; HMM Company Limited; Independent Container Line, Ltd; Klinge Corporation; Maersk A/S; Matson Navigation Company, Inc.; Ocean Network Express Pte. Ltd.; Orient Overseas Container Line Limited; Tampa Bay International Terminals, Inc.; Tropical Shipping & Construction Company Limited, LLC; Bermuda Container Line Ltd.; Seaboard Marine Ltd.; Yang Ming Marine Transport Corporation; Wallenius Wilhelmsen Ocean AS; Wan Hai Lines Ltd.; National Cargo Bureau.

Filing Party: Wayne Rohde; Cozen O'Connor.

Synopsis: The amendment deletes APL Co. PTE Ltd., Marine Transport Management, Inc., and National Shipping Company of Saudi Arabia d/b/a Bahri as parties to the Agreement. It adds the National Cargo Bureau as an associate party. The amendment also makes technical corrections to the names of three other parties.

Proposed Effective Date: 5/10/2021.

Location: https://www2.fmc.gov/FMC.Agreements.Web/Public/AgreementHistory/1638.

Agreement No.: 201359.

Agreement Name: Schuyler Line Navigation Company, LLC & American President Lines, LLC Space Charter Agreement.

Parties: American President Lines, LLC; and Schuyler Line Navigation Company, LLC.

Filing Party: Patricia O'Neill; American President Lines, LLC.

Synopsis: The Agreement authorizes the parties to charter space to and from one another in the trade between the U.S. on the one hand and Dominican Republic, Haiti, Suriname, Jamaica, Trinidad & Tobago, Bahamas, Martinique, Saint Vincent and the Grenadines, Grenada, Dominica, Curacao, Saint Lucia, Antigua & Barbuda, Cayman Islands, Aruba, Saint Kitts & Nevis, Honduras, Belize, Guatemala, Nicaragua, Costa Rica, Montserrat, Colombia, Venezuela, British Virgin Islands, Saint Barthelemy, Caribbean Netherlands, Guadeloupe, Barbados, Anguilla, Argentina, Bolivia, Brazil, Chile, Ecuador, Guyana, Paraguay, Uruguay, French Guiana, Panama, Peru, and Mexico on the other hand.

Proposed Effective Date: 5/10/21. Location: https://www2.fmc.gov/FMC.Agreements.Web/Public/AgreementHistory/41507.

Dated: April 2, 2021.
JoAnne O'Bryant,
Program Analyst.

[FR Doc. 2021-07153 Filed 4-6-21; 8:45 am]

BILLING CODE 6730-02-P